DEPARTMENT OF COMMERCE

International Trade Administration

[C-570-915]

Light-Walled Rectangular Pipe and Tube From the People's Republic of China: Rescission of Countervailing Duty Administrative Review

AGENCY: Import Administration, International Trade Administration, Department of Commerce.

DATES: Effective Date: November 9, 2010.

FOR FURTHER INFORMATION CONTACT: Austin Redington or Patricia Tran, AD/CVD Operations, Office 1, Import Administration, U.S. Department of Commerce, 14th Street and Constitution Avenue, NW., Washington, DC 20230; telephone (202) 482-1664 and (202) 482-1503, respectively.

SUPPLEMENTARY INFORMATION:

Background

On August 2, 2010, the U.S. Department of Commerce (“Department”) published a notice of opportunity to request an administrative review of the countervailing duty order on light-walled rectangular pipe and tube from the People's Republic of China (“PRC”) for the period of review January 1, 2009, through December 31, 2009. See Antidumping or Countervailing Duty Order, Finding, or Suspended Investigation; Opportunity To Request Administrative Review, 75 FR 45094 (August 2, 2010). On August 30, 2010, in accordance with 19 CFR 351.213(b), the Department received a timely request from Sun Group Co., Ltd. (“Sun Group”) to conduct an administrative review of Sun Group. No other party requested an administrative review.

On September 29, 2010, the Department published the notice of initiation of this countervailing duty administrative review with respect to Sun Group. See Initiation of Antidumping and Countervailing Duty Administrative Reviews and Requests for Revocation in Part, 75 FR 60076, 60082 (September 29, 2010).

Rescission of Countervailing Duty Administrative Review

Pursuant to 19 CFR 351.213(d)(1), the Secretary will rescind an administrative review, in whole or in part, if the party who requested the administrative review withdraws the request within 90 days of the date of publication of the notice of initiation of the requested administrative review. On October 15, 2010, Sun Group timely withdrew its request for an administrative review, and no other party requested a review. Therefore, in response to Sun Group's withdrawal of its request for review, and pursuant to 19 CFR 351.213(d)(1), the Department hereby rescinds this administrative review.

Assessment Instructions

The Department will instruct U.S. Customs and Border Protection (“CBP”) to assess countervailing duties on all appropriate entries. For the Sun Group, countervailing duties shall be assessed at rates equal to the cash deposit or bonding rate of the estimated countervailing duties required at the time of entry, or withdrawal from warehouse, for consumption, in accordance with 19 CFR 351.212(c)(1)(i). The Department intends to issue appropriate assessment instructions directly to CBP 15 days after publication of this notice.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: November 1, 2010.
Susan H. Kuhbach,
Acting Deputy Assistant Secretary for Antidumping and Countervailing Duty Operations.

[FR Doc. 2010-28283 Filed 11-8-10; 8:45 am]

BILLING CODE 3510-DS-P